DEPARTMENT OF HEALTH AND HUMAN SERVICES

National Institutes of Health

Prospective Grant of an Exclusive Patent License: Enhanced Tumor Reactivity of T Cells Lacking SIT1, LAX1, or TRAT1

AGENCY: National Institutes of Health, HHS.

ACTION: Notice.

SUMMARY: The Eunice Kennedy Shriver National Institute of Child Health and Human Development, an institute of the National Institutes of Health, United States Department of Health and Human Services, is contemplating the grant of an Exclusive Patent License to practice the inventions embodied in the patent applications listed in the Supplementary Information section of this notice to EnZeta Immunotherapies, Inc., a company located in Coral Gables, FL.

DATES: Only written comments and/or applications for a license which are received by the National Cancer Institute's Technology Transfer Center, representing the Eunice Kennedy Shriver National Institute of Child Health and Human Development, on or before January 7, 2026 will be considered.

ADDRESSES: Requests for copies of the patent application, inquiries, and comments relating to the contemplated an Exclusive Patent License should be directed to: Geoffrey E. Ravilious, Ph.D., NCI Technology Transfer Center, Telephone: 240-276-6391; Email: geoffrey.ravilious@nih.gov.

SUPPLEMENTARY INFORMATION:

Intellectual Property

1. United States Provisional Patent Application No. 63/625,354 filed January 26, 2024, and entitled “ENHANCED TUMOR REACTIVITY OF T CELLS LACKING SIT1, LAX1, OR TRAT1” [HHS Reference No. E-004-2024-0-US-01];

2. International Patent Application No. PCT/US2025/013054 filed January 24, 2025, and entitled “ENHANCED TUMOR REACTIVITY OF T CELLS LACKING SIT1, LAX1, OR TRAT1” [HHS Reference No. E-004-2024-0-PC-01]; and

3. any and all other U.S. and ex-U.S. patents and patent applications claiming priority to any one of the foregoing, now or in the future.

The patent rights in these inventions have been assigned to the Government of the United States of America.

The prospective exclusive license territory may be worldwide and the field of use may be limited to the following:

“The use of the Licensed Patent Rights to develop, manufacture, distribute, sell and use T-cell-based therapeutics for the treatment of solid tumors, high-grade dysplasia and pre-neoplastic conditions.”

This technology describes modified T cell therapeutics that have reduced expression of one or a combination of transmembrane adaptor proteins SIT1, LAX1 and TRAT1. T cell-based therapeutics such as ex vivo expanded tumor infiltrating lymphocytes (TIL) and chimeric antigen receptor T-cells (CAR-T) have clinical utility against a limited number of solid tumor types, most notably, melanoma. However, to date, efficacy in patients has been limited due to several factors. The subject invention potentially addresses the limited efficacy of T cell therapeutics by reducing expression of SIT1, LAX1 and/or TRAT1 which leads to enhanced T cell cytotoxic activity against tumor cells.

This Notice is made in accordance with 35 U.S.C. 209 and 37 CFR part 404. The prospective exclusive license will be royalty bearing, and the prospective exclusive license may be granted unless within fifteen (15) days from the date of this published notice, the National Cancer Institute, representing the Eunice Kennedy Shriver National Institute of Child Health and Human Development, receives written evidence and argument that establishes that the grant of the license would not be consistent with the requirements of 35 U.S.C. 209 and 37 CFR part 404.

Complete applications for a license that are timely filed in response to this notice will be treated as objections to the grant of the contemplated exclusive patent license. In response to this Notice, the public may file comments or objections. Comments and objections, other than those in the form of a license application, will not be treated confidentially, and may be made publicly available.

License applications submitted in response to this Notice will be presumed to contain business confidential information and any release of information in these license applications will be made only as required and upon a request under the Freedom of Information Act, 5 U.S.C. 552.

Dated: December 18, 2025.
Richard U. Rodriguez,
Associate Director, Technology Transfer Center, National Cancer Institute.

[FR Doc. 2025-23691 Filed 12-22-25; 8:45 am]

BILLING CODE 4140-01-P